FEDERAL RESERVE SYSTEM

12 CFR Parts 225, 238, and 252

[Regulations Y, LL, and YY; Docket No. R-1724]

RIN 7100-AF95

Amendments to Capital Planning and Stress Testing Requirements for Large Bank Holding Companies, Intermediate Holding Companies and Savings and Loan Holding Companies; Correction

AGENCY: Board of Governors of the Federal Reserve System (Board).

ACTION: Notice of proposed rulemaking with request for comment; correction.

SUMMARY: This document corrects the portions of the discussion related to collections of information published with a proposed rule published in the Federal Register of October 7, 2020, regarding Amendments to Capital Planning and Stress Testing Requirements for Large Bank Holding Companies, Intermediate Holding Companies and Savings and Loan Holding Companies. This correction adds the OMB control number for the reporting form FR LL. In addition, the previously published document incorrectly listed the estimated recordkeeping burden associated with the FR YY information collection. This correction also provides a corrected burden estimate.

DATES: Comments must be received by November 20, 2020.

FOR FURTHER INFORMATION CONTACT: Mark Tokarski, Lead Regulatory Analyst (202) 452-5241 or Robert Dahl, Senior Regulatory Analyst, (202) 452-7627, Office of Data Management and Business Services. For the hearing impaired and users of TDD please call (202) 263-4869. You may also contact any of the individuals named in the proposed rule published on October 7, 2020 at 82 FR 63228.

SUPPLEMENTARY INFORMATION:

Corrections

In proposed rule FR Doc. 2020-22166, beginning on page 63222 in the issue of October 7, 2020, make the following corrections in the Supplementary Information section:

1. On page 63229, in the third column, under the “Other Revisions” heading, correct the OMB control number from “7100-NEW” to “7100-0380.”

2. On page 63230, in the first column, under Current estimated annual burden: remove “41,619 hours” and replace with “27,751 hours,” and under Proposed revisions estimated annual burden: remove “13,868 hours” and replace with “1 hour.”

3. On page 63230, in the second column, under Total estimated annual burden: remove “27,751 hours” and replace with “27,752 hours.”

Board of Governors of the Federal Reserve System.
Ann E. Misback,
Secretary of the Board.

[FR Doc. 2020-24436 Filed 11-9-20; 8:45 am]

BILLING CODE P